FEDERAL RESERVE SYSTEM

Formations of, Acquisitions by, and Mergers of Bank Holding Companies; Correction

This notice corrects a notice (FR Doc. 2014-19933) published on page 49777 of the issue for Friday, August 22, 2014.

Under the Federal Reserve Bank of San Francisco heading, the entry for Seacoast Commerce Bank Holdings, San Diego, California, is revised to read as follows:

A. Federal Reserve Bank of San Francisco (Gerald C. Tsai, Director, Applications and Enforcement) 101 Market Street, San Francisco, California 94105-1579:

1. Seacoast Commerce Banc Holdings, San Diego, California; to become a bank holding company by acquiring 100 percent of the voting shares of Seacoast Commerce Bank, San Diego, California.

Comments on this application must be received by September 18, 2014.

Board of Governors of the Federal Reserve System, August 22, 2014.
Margaret McCloskey Shanks,
Deputy Secretary of the Board.

[FR Doc. 2014-20382 Filed 8-26-14; 8:45 am]

BILLING CODE 6210-01-P